DEPARTMENT OF THE INTERIOR

National Park Service

[NPS-WASO-NRNHL-DTS#-39858; PPWOCRADI0, PCU00RP14.R50000]

National Register of Historic Places; Notification of Pending Nominations and Related Actions

AGENCY: National Park Service, Interior.

ACTION: Notice.

SUMMARY: The National Park Service is soliciting electronic comments on the significance of properties nominated before March 22, 2025, for listing or related actions in the National Register of Historic Places.

DATES: Comments should be submitted electronically by April 17, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before March 22, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

CALIFORNIA

San Bernardino County

Woods Wash, Address Restricted, Goffs vicinity, SG100011752

CONNECTICUT

Tolland County

Stafford Springs Historic District, E Main St., Furnace Ave., Main St., Highland Ter., River Rd., Silver St., Spring St., Stafford, SG100011768

FLORIDA

Duval County

Clara White Mission, DU02071, 611-615 West Ashley Street, Jacksonville, SG100011739

KANSAS

Dickinson County

Pray Farmstead(s) (Agriculture-Related Resources of Kansas MPS), 178 Hawk Road, Hope, MP100011740

KENTUCKY

Jefferson County

Reliance Varnish Company Building, 915 East Kentucky Street, Louisville, SG100011757

MASSACHUSETTS

Bristol County

Attleboro Jewelry Industry Historic District, 12 Dunham Street; 37, 42, 46, 49, 50, 54 Union Street, Attleboro, SG100011758

Suffolk County

South End District (Boundary Increase II), 401 Shawmut Avenue; 63-71, 75, 77, 79, 83 West Brookline Street; 73 West Brookline Street/403 Shawmut Avenue, 1511-1525 Washington Street, Boston, BC100011759

MISSISSIPPI

Jones County

Evans House and Barn, 159 Wisteria Trail house and 161 Wisteria Trail (barn), Laurel, SG100011760

NEW YORK

Chautauqua County

First Presbyterian Church, Jamestown, New York, 509 Prendergast Avenue, Jamestown, SG100011762

Erie County

Ahavas Achim Cemetery, 532 Pine Ridge Heritage Blvd., Cheektowaga, SG100011765

New York County

Church of St. Edward the Martyr, 8-14 East 109th Street, New York, SG100011763

Marcus Garvey Park, Mount Morris Park West, 120th St., Madison Ave., 124th Street, New York, SG100011764

OREGON

Curry County

Port Orford City Jail, 7th Street near Jefferson Street, No Street Number, Port Orford, SG100011755

TEXAS

Brewster County

Holland Hotel, 201 and 209 West Holland Avenue, Alpine, SG100011753

Dallas County

Rosenfield, Max J. and Jennie, House, 1419 Beaumont Street, Dallas, SG100011754

VIRGINIA

Norfolk INDEPENDENT CITY

Talbot Park Apartments (Garden Apartment Complexes of Norfolk, Virginia MPS), 118 Warren Street, Norfolk, MP100011772

WEST VIRGINIA

Berkeley County

Forest Hill School, 12556 Apple Harvest Drive, Martinsburg, SG100011742

Cabell County

Bethel Memorial Park Cemetery, South end of Bethel Road, Huntington, SG100011743

Greenbrier County

Chapel of the Immaculate Conception of the Blessed Virgin Mary, Catholic Church Road, Williamsburg, SG100011744

Jefferson County

Houser-Mahoney House, Carter Avenue across from intersection of Timber Ln., Bakerton vicinity, SG100011745

Additional documentation has been received for the following resource(s):

ARIZONA

Pima County

West University Historic District (Additional Documentation), Roughly bounded by Speedway Blvd., 6th St., Park and Stone Aves., Tucson, AD80004240

COLORADO

Routt County

Perry-Mansfield School of Theatre and Dance, 40755 Routt Co. Rd. 36, Steamboat Springs vicinity, AD95000794

GEORGIA

Fulton County

Thornton, Albert E., House (Additional Documentation), (West Paces Ferry Road MRA), 205 West Paces Ferry Rd., Atlanta, AD80004458

MASSACHUSETTS

Middlesex County

Longfellow House-Washington's Headquarters National Historic Site (Additional Documentation), Address Restricted, Cambridge, AD66000049

NEW MEXICO

Bernalillo County

St. John's Cathedral (Additional Documentation), (Buildings Designed by John Gaw Meem MPS), 318 Silver Ave., Albuquerque, AD100003029

NEW YORK

Columbia County

Hillsdale Hamlet Historic District (Additional Documentation), NY Rts. 22 & 23, Anthony, Cold Water & Maple Sts., Old Town & Pill Hill Rds., Hillsdale, AD09001283

Nomination(s) submitted by Federal Preservation Officers:

The State Historic Preservation Officer reviewed the following nomination(s) and responded to the Federal Preservation Officer within 45 days of receipt of the nomination(s) and supports listing the properties in the National Register of Historic Places.

INDIANA

Porter County

Porter County, Cowles Bog, 1100 N Mineral Springs Road, Chesterton vicinity, SG100011750

West Beach Historic District, 376 North County Line Road, Portage vicinity, SG100011751

Authority: Section 60.13 of 36 CFR part 60.

Sherry A. Frear,
Chief, National Register of Historic Places/National Historic Landmarks Program.

[FR Doc. 2025-05570 Filed 4-1-25; 8:45 am]

BILLING CODE 4312-52-P